DEPARTMENT OF HOUSING AND URBAN DEVELOPMENT

[Docket No. FR-5375-N-11]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Robert Moore, Air Force Real Property Agency, 143 Billy Mitchell Blvd., San Antonio, TX 78226, (210) 925-3047; COAST GUARD: Commandant, United States Coast Guard, Attn: Jennifer Stomber, 2100 Second St., SW., Stop 7901, Washington, DC 20593-0001; (202) 475-5609; GSA: Mr. Gordon Creed, Acting Deputy Assistant Commissioner, General Services Administration, Office of Property Disposal, 18th & F Streets, NW., Washington, DC 20405; (202) 501-0084; INTERIOR: Mr. Michael Wright, Acquisition & Property Management, Department of the Interior, 1849 C Street, NW., Washington, DC 20240: (202) 208-5399; NAVY: Mr. Albert Johnson, Director of Real Estate, Department of the Navy, Naval Facilities Engineering Command, Washington Navy Yard, 1330 Patterson Ave., SW., Suite 1000, Washington, DC 20374; (202) 685-9305; (These are not toll-free numbers).

Dated: March 18, 2010.
Mark R. Johnston,
Deputy Assistant Secretary for Special Needs.

Title V, Federal Surplus Property Program

Federal Register Report For 03/26/2010

Suitable/Available Properties

Building

California

Facility 1

OTHB Radar Site

Tulelake, CA 91634

Landholding Agency: Air Force

Property Number: 18200830012

Status: Unutilized

Comments: 7920 sq. ft., most recent use—communications

Facility 2

OTHB Radar Site

Tulelake, CA 91634

Landholding Agency: Air Force

Property Number: 18200830014

Status: Unutilized

Comments: 900 sq. ft., most recent use—veh maint shop

Facilities 3, 4

OTHB Radar Site

Tulelake, CA 91634

Landholding Agency: Air Force

Property Number: 18200830015

Status: Unutilized

Comments: 4160 sq. ft. each, most recent use—communications

Facility 1

OTHB Radar Site

Christmas Valley, CA 97641

Landholding Agency: Air Force

Property Number: 18200830016

Status: Unutilized

Comments: 16566 sq. ft., most recent use—communications

Facility 2

OTHB Radar Site

Christmas Valley, CA 97641

Landholding Agency: Air Force

Property Number: 18200830017

Status: Unutilized

Comments: 900 sq. ft., most recent use—veh maint shop

Facility 4

OTHB Radar Site

Christmas Valley, CA 97641

Landholding Agency: Air Force

Property Number: 18200830018

Status: Unutilized

Comments: 14,190 sq. ft., most recent use—communications

Facility 6

OTHB Radar Site

Christmas Valley, CA 97641

Landholding Agency: Air Force

Property Number: 18200830019

Status: Unutilized

Comments: 14,190 sq. ft., most recent use—transmitter bldg.

Hawaii

Bldg. 849

Bellows AFS

Bellows AFS, HI

Landholding Agency: Air Force

Property Number: 18200330008

Status: Unutilized

Comments: 462 sq. ft., concrete storage facility, off-site use only

Maine

Bldgs 1, 2, 3, 4

OTH-B Radar Site

Columbia Falls, ME

Landholding Agency: Air Force

Property Number: 18200840009

Status: Unutilized

Comments: Various sq. ft., most recent use—storage/office

New York

Bldg. 240

Rome Lab

Rome Co: Oneida NY 13441

Landholding Agency: Air Force

Property Number: 18200340023

Status: Unutilized

Comments: 39108 sq. ft., presence of asbestos, most recent use—Electronic Research Lab

Bldg. 247 Rome Lab

Rome Co: Oneida,NY 13441

Landholding Agency: Air Force

Property Number: 18200340024

Status: Unutilized

Comments: 13199 sq. ft., presence of asbestos, most recent use—Electronic Research Lab

Bldg. 248

Rome Lab

Rome Co: Oneida, NY 13441

Landholding Agency: Air Force

Property Number: 18200340025

Status: Unutilized

Comments: 4000 sq. ft., presence of asbestos, most recent use—Electronic Research Lab

Bldg. 302

Rome Lab

Rome Co: Oneida, NY 13441

Landholding Agency: Air Force

Property Number: 18200340026

Status: Unutilized

Comments: 10288 sq. ft., presence of asbestos, most recent use—communications facility

Ohio

Federal Building

201 Cleveland Ave.

Canton, OH 44702

Landholding Agency: GSA

Property Number: 54201010018

Status: Excess

GSA Number: 1-G-OH-840

Comments: 44,545 sq. ft., possible asbestos/lead paint, National Register of Historic Places, most recent use—office

South Carolina

256 Housing Units

Charleston AFB

South Side Housing

Charleston, SC

Landholding Agency: Air Force

Property Number: 18200920001

Status: Excess

Comments: Various sq. ft., presence of asbestos/lead paint, off-site use only

Suitable/Available Properties

Land

Arizona

Guadalupe Road Land,

Ironwood Road

Apache Junction, AZ 95971

Landholding Agency: GSA

Property Number: 54201010012

Status: Surplus

GSA Number: 9-AZ-851-1

Comments: 1.36 acres, most recent use—aqueduct reach

Houston Road Land,

Ironwood Road

Apache Junction, AZ 85278

Landholding Agency: GSA

Property Number: 54201010013

Status: Surplus

GSA Number: 9-AZ-854

Comments: 5.89 acres, most recent use—aqueduct reach

95th Ave/Bethany Home Rd

Glendale, AZ 85306

Landholding Agency: GSA

Property Number: 54201010014

Status: Surplus

GSA Number: 9-AZ-852

Comments: 0.29 acre, most recent use—irrigation canal

California

Parcels L1 & L2

George AFB

Victorville, CA 92394

Landholding Agency: Air Force

Property Number: 18200820034

Status: Excess

Comments: 157 acres/desert, pump-and-treat system, groundwater restrictions, AF access rights, access restrictions, environmental concerns

Missouri

Communications Site

County Road 424

Dexter Co: Stoddard, MO

Landholding Agency: Air Force

Property Number: 18200710001

Status: Unutilized

Comments: 10.63 acres

Outer Marker Annex

Whiteman AFB

Knob Noster, MO 65336

Landholding Agency: Air Force

Property Number: 18200940001

Status: Unutilized

Comments: 0.75 acres, most recent use—communication

North Carolina

0.14 acres

Pope AFB

Pope AFB, NC

Landholding Agency: Air Force

Property Number: 18200810001

Status: Excess

Comments: Most recent use—middle marker, easement for entry

Texas

0.13 acres

DYAB, Dyess AFB

Tye Co: Taylor TX 79563

Landholding Agency: Air Force

Property Number: 18200810002

Status: Unutilized

Comments: Most recent use—middle marker, access limitation

Suitable/Unavailable Properties

Building

Washington

Bldg. 404/Geiger Heights

Fairchild AFB

Spokane WA 99224

Landholding Agency: Air Force

Property Number: 18200420002

Status: Unutilized

Comments: 1996 sq. ft., possible asbestos/lead paint, most recent use—residential

11 Bldgs./Geiger Heights

Fairchild AFB

Spokane WA 99224

Landholding Agency: Air Force

Property Number: 18200420003

Status: Unutilized

Comments: 2134 sq. ft., possible asbestos/lead paint, most recent use—residential

Bldg. 297/Geiger Heights

Fairchild AFB

Spokane WA 99224

Landholding Agency: Air Force

Property Number: 18200420004

Status: Unutilized

Comments: 1425 sq. ft., possible asbestos/lead paint, most recent use—residential

9 Bldgs./Geiger Heights

Fairchild AFB

Spokane WA 99224

Landholding Agency: Air Force

Property Number: 18200420005

Status: Unutilized

Comments: 1620 sq. ft., possible asbestos/lead paint, most recent use—residential

22 Bldgs./Geiger Heights

Fairchild AFB

Spokane WA 99224

Landholding Agency: Air Force

Property Number: 18200420006

Status: Unutilized

Comments: 2850 sq. ft., possible asbestos/lead paint, most recent use—residential

51 Bldgs./Geiger Heights

Fairchild AFB

Spokane WA 99224

Landholding Agency: Air Force

Property Number: 18200420007

Status: Unutilized

Comments: 2574 sq. ft., possible asbestos/lead paint, most recent use—residential

Bldg. 402/Geiger Heights

Fairchild AFB

Spokane WA 99224

Landholding Agency: Air Force

Property Number: 18200420008

Status: Unutilized

Comments: 2451 sq. ft., possible asbestos/lead paint, most recent use—residential

5 Bldgs./Geiger Heights

Fairchild AFB

222, 224, 271, 295, 260 Spokane WA 99224

Landholding Agency: Air Force

Property Number: 18200420009

Status: Unutilized

Comments: 3043 sq. ft., possible asbestos/lead paint, most recent use—residential

5 Bldgs./Geiger Heights

Fairchild AFB

102, 183, 118, 136, 113

Spokane WA 99224

Landholding Agency: Air Force

Property Number: 18200420010

Status: Unutilized

Comments: 2599 sq. ft., possible asbestos/lead paint, most recent use—residential

Land

South Dakota

Tract 133

Ellsworth AFB

Box Elder Co: Pennington SD 57706

Landholding Agency: Air Force

Property Number: 18200310004

Status: Unutilized

Comments: 53.23 acres

Tract 67

Ellsworth AFB

Box Elder Co: Pennington SD 57706

Landholding Agency: Air Force

Property Number: 18200310005

Status: Unutilized

Comments: 121 acres, bentonite layer in soil, causes movement

Unsuitable Properties

Building

Alabama

15 Bldgs.

Dauphin Island

Mobile, AL

Landholding Agency: Coast Guard

Property Number: 88200930002

Status: Underutilized

Reasons: Secured Area

Alaska

Bldg. 9485

Elmendorf AFB

Elmendorf, AK

Landholding Agency: Air Force

Property Number: 18200730001

Status: Unutilized

Reasons: Secured Area

Bldg. 70500

Seward, AFB

Seward AK 99664

Landholding Agency: Air Force

Property Number: 18200820001

Status: Unutilized

Reasons: Secured Area

Bldg. 3224

Eielson AFB

Eielson, AK 99702

Landholding Agency: Air Force

Property Number: 18200820002

Status: Unutilized

Reasons: Extensive deterioration Secured Area

Bldgs. 1437, 1190, 2375

Eielson, AFB

Eielson AK

Landholding Agency: Air Force

Property Number: 18200830001

Status: Unutilized

Reasons: Secured Area Extensive deterioration

5 Bldgs.

Eielson, AFB

Eielson AK

Landholding Agency: Air Force

Property Number: 18200830002

Status: Unutilized

Directions: 3300, 3301, 3315, 3347, 3383

Reasons: Secured Area Extensive deterioration

4 Bldgs.

Eielson AFB

Eielson, AK

Landholding Agency: Air Force

Property Number: 18200830003

Status: Unutilized

Directions: 4040, 4332, 4333, 4480

Reasons: Extensive deterioration Secured Area

Bldgs. 6122, 6205

Eielson, AFB

Eielson AK

Landholding Agency: Air Force

Property Number: 18200830004

Status: Unutilized

Reasons: Extensive deterioration Secured Area

Bldg. 8128

Elmendorf, AFB

Elmendorf AK 99506

Landholding Agency: Air Force

Property Number: 18200830005

Status: Underutilized

Reasons: Secured Area

Bldg. 7111

Elmendorf AFB

Anchorage, AK

Landholding Agency: Air Force

Property Number: 18200920014

Status: Unutilized

Reasons: Secured Area

Bldgs. 615, 617, 751, 753

Eareckson Air Station

Shemya Island, AK

Landholding Agency: Air Force

Property Number: 18200920015

Status: Unutilized

Reasons: Within airport runway clear zone Extensive deterioration Within 2000 ft. of flammable or explosive material Secured Area

Bldgs. 100, 101

Point Barrow Long Range

Radar Site

Point Barrow, AK

Landholding Agency: Air Force

Property Number: 18201010001

Status: Unutilized

Reasons: Within 2000 ft. of flammable or explosive material Within airport runway clear zone

Radar Tower

Potato Point Comm Site

Valdez, AK

Landholding Agency: Coast Guard

Property Number: 88200710001

Status: Excess

Reasons: Not accessible by road Secured Area Within 2000 ft. of flammable or explosive material

Bldg. 12B

Integrated Support Command

Kodiak, AK

Landholding Agency: Coast Guard

Property Number: 88200810003

Status: Excess

Reasons: Secured Area Within 2000 ft. of flammable or explosive material Extensive deterioration

Bldg. 554

Integrated Support Command

Kodiak, AK

Landholding Agency: Coast Guard

Property Number: 88200810004

Status: Excess

Reasons: Secured Area Within 2000 ft. of flammable or explosive material

Bldg. B02

USCG DGPS

Annette Island, AK 99926

Landholding Agency: Coast Guard

Property Number: 88200820001

Status: Excess

Reasons: Secured Area

Bldg. B02

USCG DGPS

Gustavus, AK 99826

Landholding Agency: Coast Guard

Property Number: 88200820002

Status: Excess

Reasons: Secured Area

Bldg. 10

LORAN Station

Carroll Inlet, AK

Landholding Agency: Coast Guard

Property Number: 88200840001

Status: Excess

Reasons: Not accessible by road Extensive deterioration

Transmitter Bldg. B4A

Loran Station

St. Paul, AK 99660

Landholding Agency: Coast Guard

Property Number: 88200920001

Status: Excess

Reasons: Contamination

Arizona

Railroad Spur

Davis-Monthan AFB

Tucson AZ 85707

Landholding Agency: Air Force

Property Number: 18200730002

Status: Excess

Reasons: Within airport runway clear zone

6 Bldgs., Tract 102-01

National Park

Grand Canyon AZ 86052

Landholding Agency: Interior

Property Number: 61201010004

Status: Excess

Directions: 935, 936, 937, 938, 939, 940

Reasons: Extensive deterioration

Arkansas

Tracts 04-152, 06-110

National Park

Hot Springs AR 71901

Landholding Agency: Interior

Property Number: 61201010003

Status: Unutilized

Reasons: Extensive deterioration

California

Bldgs. 5001 thru 5082

Edwards AFB

Area A

Los Angeles CA 93524

Landholding Agency: Air Force

Property Number: 18200620002

Status: Unutilized

Reasons: Extensive deterioration Secured Area

Garages 25001 thru 25100

Edwards AFB

Area A

Los Angeles CA 93524

Landholding Agency: Air Force

Property Number: 18200620003

Status: Unutilized

Reasons: Extensive deterioration Secured Area

Bldg. 00275

Edwards AFB

Kern CA 93524

Landholding Agency: Air Force

Property Number: 18200730003

Status: Unutilized

Reasons: Within airport runway clear zone

Secured Area Extensive deterioration

Bldgs. 02845, 05331, 06790

Edwards AFB

Kern CA 93524

Landholding Agency: Air Force

Property Number: 18200740001

Status: Unutilized

Reasons: Extensive deterioration

Bldgs. 07173, 07175, 07980

Edwards AFB

Kern CA 93524

Landholding Agency: Air Force

Property Number: 18200740002

Status: Unutilized

Reasons: Secured Area

Bldg. 5308

Edwards AFB

Kern CA 93523

Landholding Agency: Air Force

Property Number: 18200810003

Status: Unutilized

Reasons: Secured Area Extensive deterioration

Facility 100

Pt. Arena AF Station

Mendocino CA 95468

Landholding Agency: Air Force

Property Number: 18200810004

Status: Excess

Reasons: Secured Area Extensive deterioration

Bldgs. 1952, 1953, 1957, 1958

Vandenberg AFB

Vandenberg CA 93437

Landholding Agency: Air Force

Property Number: 18200820007

Status: Unutilized

Reasons: Secured Area

Bldgs. 1992, 1995

Vandenberg AFB

Vandenberg CA 93437

Landholding Agency: Air Force

Property Number: 18200820008

Status: Unutilized

Reasons: Secured Area

5 Bldgs.

Pt. Arena AF Station

101, 102, 104, 105, 108

Mendocino CA 95468

Landholding Agency: Air Force

Property Number: 18200820019

Status: Excess

Reasons: Extensive deterioration Secured Area

Bldgs. 160, 161, 166

Pt. Arena AF Station

Mendocino CA 95468

Landholding Agency: Air Force

Property Number: 18200820020

Status: Excess

Reasons: Extensive deterioration Secured Area

8 Bldgs.

Pt. Arena AF Station

Mendocino CA 95468

Landholding Agency: Air Force

Property Number: 18200820021

Status: Excess

Directions: 201, 202, 203, 206, 215, 216, 217, 218

Reasons: Secured Area Extensive deterioration

7 Bldgs.

Pt. Arena AF Station

Mendocino CA 95468

Landholding Agency: Air Force

Property Number: 18200820022

Status: Excess

Directions: 220, 221, 222, 223, 225, 226, 228

Reasons: Secured Area Extensive deterioration

Bldg. 408

Pt. Arena AF Station

Mendocino CA 95468

Landholding Agency: Air Force

Property Number: 18200820023

Status: Excess

Reasons: Secured Area Extensive deterioration

Bldgs. 601 thru 610

Pt. Arena AF Station

Mendocino CA 95468

Landholding Agency: Air Force

Property Number: 18200820024

Status: Excess

Reasons: Secured Area Extensive deterioration

Bldgs. 611-619

Pt. Arena AF Station

Mendocino CA 95468

Landholding Agency: Air Force

Property Number: 18200820025

Status: Excess

Reasons: Secured Area Extensive deterioration

Bldgs. 620 thru 627

Pt. Arena AF Station

Mendocino CA 95468

Landholding Agency: Air Force

Property Number: 18200820026

Status: Excess

Reasons: Secured Area Extensive deterioration

Bldgs. 654, 655, 690

Pt. Arena AF Station

Mendocino CA 95468

Landholding Agency: Air Force

Property Number: 18200820027

Status: Excess

Reasons: Secured Area Extensive deterioration

Bldgs. 300, 387

Pt. Arena Comm Annex

Mendocino CA 95468

Landholding Agency: Air Force

Property Number: 18200820029

Status: Excess

Reasons: Secured Area Extensive deterioration

Bldgs. 700, 707, 796, 797

Pt. Arena Comm Annex

Mendocino CA 95468

Landholding Agency: Air Force

Property Number: 18200820030

Status: Excess

Reasons: Secured Area Extensive deterioration

Bldgs. 748, 838

Vandenberg AFB

Vandenberg CA 93437

Landholding Agency: Air Force

Property Number: 18200820033

Status: Unutilized

Reasons: Secured Area

Bldgs. 1412, 2422, 3514

Edwards AFB

Kern CA 93524

Landholding Agency: Air Force

Property Number: 18200840001

Status: Unutilized

Reasons: Secured Area Extensive deterioration

Bldg. 417

Fort MacArthur

Fort MacArthur CA

Landholding Agency: Air Force

Property Number: 18200920003

Status: Unutilized

Reasons: Secured Area Extensive deterioration

6 Bldgs.

Beale AFB

Beale AFB CA 95903

Landholding Agency: Air Force

Property Number: 18200930001

Status: Unutilized

Directions: 355, 421, 1062, 1088, 1250, 1280

Reasons: Extensive deterioration

7 Bldgs.

Beale AFB

Beale AFB CA 95903

Landholding Agency: Air Force

Property Number: 18200930002

Status: Unutilized

Directions: 2160, 2171, 2340, 2432, 2491, 2560, 5800

Reasons: Extensive deterioration

5 Bldgs.

Edwards AFB

Kern CA 93523

Landholding Agency: Air Force

Property Number: 18200930003

Status: Unutilized

Directions: 3505, 601, 225, 4700, 4222

Reasons: Secured Area

5 Bldgs.

Edwards AFB

Los Angeles CA 93524

Landholding Agency: Air Force

Property Number: 18200940002

Status: Unutilized

Directions: 50, 5510, 7161, 7163, 7184

Reasons: Secured Area

8 Bldgs.

Vandenberg AFB

Santa Barbara CA 93437

Landholding Agency: Air Force

Property Number: 18200940003

Status: Unutilized

Directions: 182, 575, 578, 580, 582, 583, 584, 589

Reasons: Secured Area Extensive deterioration

4 Bldgs.

Vandenberg AFB

Santa Barbara CA 93437

Landholding Agency: Air Force

Property Number: 18200940004

Status: Unutilized

Directions: 590, 596, 598, 599

Reasons: Secured Area Extensive deterioration

5 Bldgs.

Vandenberg AFB

Santa Barbara CA 93437

Landholding Agency: Air Force

Property Number: 18200940005

Status: Unutilized

Directions: 708, 742, 955, 1836, 13403

Reasons: Secured Area Extensive deterioration

14 Bldgs.

Beale AFB

Beale AFB CA 95903

Landholding Agency: Air Force

Property Number: 18200940006

Status: Unutilized

Directions: 4158, 3936, 3942, 3947, 4314, 4318, 4256, 4120, 4103, 3871, 3873, 3887, 3919, 4133

Reasons: Extensive deterioration

Bldgs. 4320, 800

Beale AFB

Beale AFB CA 95903

Landholding Agency: Air Force

Property Number: 18200940007

Status: Unutilized

Reasons: Extensive deterioration

4 Bldgs.

Beale AFB

Beale AFB CA 95903

Landholding Agency: Air Force

Property Number: 18200940008

Status: Unutilized

Directions: 4136, 5223, 5228, 5278

Reasons: Extensive deterioration

4 Bldgs.

Vandenberg AFB

Vandenberg CA 93437

Landholding Agency: Air Force

Property Number: 18201010002

Status: Unutilized

Directions: 1892, 9340, 13400, 21110

Reasons: Secured Area

10 Bldgs.

Edwards AFB

Los Angeles CA 93524

Landholding Agency: Air Force

Property Number: 18201010003

Status: Unutilized

Directions: 4259, 8374, 8647, 8665, 8785, 1005, 1423, 1725, 4233, 9650

Reasons: Secured Area

Bldgs. 1154, 2459, 5114

Beale AFB

Beale CA 95903

Landholding Agency: Air Force

Property Number: 18201010004

Status: Unutilized

Reasons: Extensive deterioration

32 Structures

National Park Service

Redwood

Klamath CA 95548

Landholding Agency: Interior

Property Number: 61201010005

Status: Excess

Directions: 4112, 4310, 4313, 4311A, 4311B, 4312A, 4312B, 4100, 4101, 4107, 4109, 4110, 4118, 4120, 4150, 4198, 4200, 4201, 4202, 4208, 4210, 4212, 4213, 4214, 4217, 4218, 4300, 4301, 4302, 4303, 4304, 4400, 4121

Reasons: Extensive deterioration

12 Bldgs.

Inverness Park

Olema CA

Landholding Agency: Interior

Property Number: 61201010006

Status: Unutilized

Directions: 227840, 555, 556, 97165, 97166, 97167, 97168, 116003, 116004, 116005, 116006, 116007

Reasons: Extensive deterioration

Bldg. 4

Naval Base Coronado

San Diego CA

Landholding Agency: Navy

Property Number: 77201010019

Status: Unutilized

Reasons: Secured Area

Bldgs. X, 35, 384, 1209

Naval Base Coronado

San Diego CA

Landholding Agency: Navy

Property Number: 77201010020

Status: Underutilized

Reasons: Secured Area

Bldg. 19

USCG Integrated Sup Comm

San Pedro CA 90731

Landholding Agency: Coast Guard

Property Number: 88200820004

Status: Unutilized

Reasons: Extensive deterioration

Colorado

Bldg. 9038

U.S. Air Force Academy

El Paso CO 80840

Landholding Agency: Air Force

Property Number: 18200920004

Status: Unutilized

Reasons: Extensive deterioration

Bldgs. 1166, 1435

Peterson AFB

Colorado Springs CO 80914

Landholding Agency: Air Force

Property Number: 18200930004

Status: Unutilized

Reasons: Secured Area

Bldg. 6980

U.S. Air Force Academy

El Paso CO 80840

Landholding Agency: Air Force

Property Number: 18200940009

Status: Unutilized

Reasons: Secured Area

Bldgs. 6966, 6968, 6930, 6932

USAF Academy

El Paso CO 80840

Landholding Agency: Air Force

Property Number: 18201010005

Status: Unutilized

Reasons: Secured Area

Connecticut

Boathouse

USCG Academy

New London CT 06320

Landholding Agency: Coast Guard

Property Number: 88200930001

Status: Unutilized

Reasons: Secured Area Extensive deterioration

Florida

Bldg. 82

Air Force Range

Avon Park FL 33825

Landholding Agency: Air Force

Property Number: 18200840002

Status: Unutilized

Reasons: Contamination Secured Area

Bldg. 202

Avon Park AF Range

Polk FL 33825

Landholding Agency: Air Force

Property Number: 18200930005

Status: Unutilized

Reasons: Extensive deterioration

Facility 47120

Cape Canaveral AFB

Brevard FL 32925

Landholding Agency: Air Force

Property Number: 18200940010

Status: Unutilized

Reasons: Secured Area

15 Bldgs.

Tyndall AFB

Bay FL 32403

Landholding Agency: Air Force

Property Number: 18201010006

Status: Unutilized

Directions: 129, 131, 138, 153, 156, 419, 743, 745, 1003, 1269, 1354, 1355, 1506, 6063, 6067

Reasons: Secured Area

4 Bldgs.

Cape Canaveral AFS

Brevard FL 32925

Landholding Agency: Air Force

Property Number: 18201010007

Status: Unutilized

Directions: 56621, 56629, 56632, 67901

Reasons: Secured Area

Georgia

6 Cabins

QSRG Grassy Pond Rec Annex

Lake Park GA 31636

Landholding Agency: Air Force

Property Number: 18200730004

Status: Unutilized

Reasons: Extensive deterioration

Bldgs. 101, 102, 103

Moody AFB

Lowndes GA 31699

Landholding Agency: Air Force

Property Number: 18200810006

Status: Excess

Reasons: Extensive deterioration

Bldgs. 330, 331, 332, 333

Moody AFB

Lowndes GA 31699

Landholding Agency: Air Force

Property Number: 18200810007

Status: Excess

Reasons: Extensive deterioration

Bldgs. 794, 1541

Moody AFB

Lowndes GA

Landholding Agency: Air Force

Property Number: 18200820012

Status: Unutilized

Reasons: Secured Area

Bldg. 970

Moody AFB

Lowndes GA 31699

Landholding Agency: Air Force

Property Number: 18200840003

Status: Unutilized

Reasons: Secured Area

Bldg. 205

Moody AFB

Lowndes GA 31699

Landholding Agency: Air Force

Property Number: 18200920005

Status: Unutilized

Reasons: Secured Area Extensive deterioration

Bldgs. 104, 118, 739, 742, 973

Moody AFB

Lowndes GA 31699

Landholding Agency: Air Force

Property Number: 18200920016

Status: Unutilized

Reasons: Secured Area Extensive deterioration

Bldgs. 134, 804, 841, 978

Moody AFB

Moody AFB GA 31699

Landholding Agency: Air Force

Property Number: 18201010008

Status: Underutilized

Reasons: Secured Area

Guam

Bldg. 1094

AAFB Yigo

Yigo GU 96543

Landholding Agency: Air Force

Property Number: 18200830007

Status: Unutilized

Reasons: Extensive deterioration

15 Bldgs.

Andersen AFB

Yigo GU 96543

Landholding Agency: Air Force

Property Number: 18200920006

Status: Excess

Reasons: Secured Area

Bldgs. 72, 73, 74

Andersen AFB

Mount Santa Rosa GU

Landholding Agency: Air Force

Property Number: 18200920017

Status: Excess

Reasons: Extensive deterioration Secured Area

Bldgs. 101, 102

Andersen AFB

Pots Junction GU

Landholding Agency: Air Force

Property Number: 18200920018

Status: Excess

Reasons: Extensive deterioration

Hawaii

Bldg. 1815

Hickam AFB

Hickam HI 96853

Landholding Agency: Air Force

Property Number: 18200730005

Status: Unutilized

Reasons: Extensive deterioration

Bldgs. 1028, 1029

Hickam AFB

Hickam HI 96853

Landholding Agency: Air Force

Property Number: 18200740006

Status: Unutilized

Reasons: Secured Area

Bldgs. 1710, 1711

Hickam AFB

Hickam HI 96853

Landholding Agency: Air Force

Property Number: 18200740007

Status: Unutilized

Reasons: Secured Area

Bldg. 1713

Hickam AFB

Hickam HI

Landholding Agency: Air Force

Property Number: 18200830008

Status: Unutilized

Reasons: Extensive deterioration

Bldg. 1843

Hickam AFB

Hickam HI 96853

Landholding Agency: Air Force

Property Number: 18200920019

Status: Unutilized

Reasons: Extensive deterioration

Bldg. 1716

RPUID

Wake Island HI

Landholding Agency: Air Force

Property Number: 18201010009

Status: Unutilized

Reasons: Secured Area Extensive deterioration

Bldg. 12

Kokee AFS

Waimea HI

Landholding Agency: Air Force

Property Number: 18201010010

Status: Unutilized

Reasons: Extensive deterioration

Bldg. 501

Hickam AFB

Hickam HI

Landholding Agency: Air Force

Property Number: 18201010011

Status: Unutilized

Reasons: Secured Area

6 Bldgs.

Kaena Point Satellite

Tracking Station

Honolulu HI

Landholding Agency: Air Force

Property Number: 18201010012

Status: Excess

Directions: 16, 18, 20, 21, 32, 33

Reasons: Extensive deterioration

Kauhola Point Lighthouse

Kauhola Point HI

Landholding Agency: Coast Guard

Property Number: 88200940001

Status: Unutilized

Reasons: Extensive deterioration

Illinois

Bldgs. OB1, OB2, OM2

U.S. Coast Guard Station

Calumet Harbor

Chicago IL 60617

Landholding Agency: Coast Guard

Property Number: 88200940005

Status: Excess

Reasons: Secured Area Extensive deterioration

Indiana

Bldg. 103

Grissom AFB

Peru IN 46970

Landholding Agency: Air Force

Property Number: 18200940011

Status: Excess

Reasons: Within 2000 ft. of flammable or explosive material

Louisiana

Barksdale Middle Marker

Bossier LA 71112

Landholding Agency: Air Force

Property Number: 18200730006

Status: Excess

Reasons: Extensive deterioration

Maine

Facilities 1, 2, 3, 4

OTH-B Site

Moscow ME 04920

Landholding Agency: Air Force

Property Number: 18200730007

Status: Unutilized

Reasons: Within 2000 ft. of flammable or explosive material

Maryland

6 Bldgs.

Naval Support Facility

Indian Head MD 20640

Landholding Agency: Navy

Property Number: 77201010021

Status: Underutilized

Directions: 83, 111, 113, 115, 116, 117

Reasons: Secured Area

8 Bldgs.

Naval Support Facility

Indian Head MD 20640

Landholding Agency: Navy

Property Number: 77201010022

Status: Underutilized

Directions: 185, 268, 289, 314, 314A, 351, 376, 377B

Reasons: Secured Area

11 Bldgs.

Naval Support Facility

Indian Head MD 20640

Landholding Agency: Navy

Property Number: 77201010023

Status: Underutilized

Directions: 435, 490, 503, 510, 521, 546, 546A, 551, 627, 639, 658

Reasons: Secured Area

12 Bldgs.

Naval Support Facility

Indian Head MD 20640

Landholding Agency: Navy

Property Number: 77201010024

Status: Underutilized

Directions: 700, 870, 1406, 1407, 1489, 1732, 1753, 1800, 1905, 1919, 1979, 3034

Reasons: Secured Area

Bldg. 155

Natl Naval Medical Center

Bethesda MD 20889

Landholding Agency: Navy

Property Number: 77201010026

Status: Unutilized

Reasons: Secured Area

Massachusetts

10 Bldgs.

North Truro Air Force Station

Truro MA 02666

Landholding Agency: GSA

Property Number: 54201010015

Status: Excess

GSA Number: 1-I-MA-00007S

Directions: 19, 101, 102, 103, 104, 105, 106, 107, 108, 109

Reasons: Extensive deterioration

10 Bldgs., Tract 16-2504

Air Force Station

Truro MA

Landholding Agency: Interior

Property Number: 61201010007

Status: Excess

Directions: 19, 101, 102, 103, 104, 105, 106, 107, 108, 109

Reasons: Extensive deterioration

Bldg. 5202

USCG Air Station

Bourne MA 02540

Landholding Agency: Coast Guard

Property Number: 88200810002

Status: Unutilized

Reasons: Extensive deterioration Secured Area

3 Sheds

USCG Sector Southeastern

Falmouth MA 02543

Landholding Agency: Coast Guard

Property Number: 88200910001

Status: Unutilized

Reasons: Secured Area Extensive deterioration

5 Bldgs.

USCG Air Station

3434, 3435, 3436, 5424, 5451

Bourne MA 02542

Landholding Agency: Coast Guard

Property Number: 88200920002

Status: Excess

Reasons: Extensive deterioration Secured Area

Michigan

Admin. Bldg.

Station Saginaw River

Essexville Co: Bay MI 48732

Landholding Agency: Coast Guard

Property Number: 88200510001

Status: Unutilized

Reasons: Secured Area Extensive deterioration

Bldg. 001

USCG Sector

Sault Ste Marie MI 49783

Landholding Agency: Coast Guard

Property Number: 88200920003

Status: Unutilized

Reasons: Secured Area

Bldg. 022

U.S. Coast Guard Station

Marquette MI 49855

Landholding Agency: Coast Guard

Property Number: 88200920004

Status: Excess

Reasons: Secured Area

Montana

Bldgs. 1600, 1601

Malmstrom AFB

Cascade MT 59402

Landholding Agency: Air Force

Property Number: 18200920020

Status: Unutilized

Reasons: Within 2000 ft. of flammable or explosive material Secured Area Extensive deterioration

Nevada

Bldg. 33400

Ely

Ely NV 89301

Landholding Agency: Air Force

Property Number: 18200820014

Status: Unutilized

Reasons: Extensive deterioration Secured Area

New Hampshire

Bldg. 152

Pease Internatl Tradeport

Newington NH 03803

Landholding Agency: Air Force

Property Number: 18200920007

Status: Unutilized

Reasons: Within 2000 ft. of flammable or explosive material Secured Area

Bldg. 16

Pease Internatl Tradeport

Newington NH 03803

Landholding Agency: Air Force

Property Number: 18200930006

Status: Excess

Reasons: Within 2000 ft. of flammable or explosive material

5 Structures

Portsmouth Naval Shipyard

Portsmouth NH

Landholding Agency: Navy

Property Number: 77201010027

Status: Excess

Directions: Berths 15-16, 15, 176, 202

Reasons: Secured Area

New Jersey

Bldgs. 2609, 2611

Joint Base

McGuire NJ

Landholding Agency: Air Force

Property Number: 18201010013

Status: Unutilized

Reasons: Extensive deterioration

Bldg. RPFN OM1

U.S. Coast Guard Station

Fortescue NJ 08321

Landholding Agency: Coast Guard

Property Number: 88200940004

Status: Unutilized

Reasons: Extensive deterioration

New Mexico

Bldg. 1016

Kirtland AFB

Bernalillo NM 87117

Landholding Agency: Air Force

Property Number: 18200730008

Status: Unutilized

Reasons: Within 2000 ft. of flammable or explosive material Extensive deterioration Secured Area

Bldgs. 40, 841

Holloman AFB

Otero NM 88330

Landholding Agency: Air Force

Property Number: 18200820016

Status: Underutilized

Reasons: Secured Area

Bldgs. 436, 437

Kirtland AFB

Bernalillo NM 87117

Landholding Agency: Air Force

Property Number: 18200820017

Status: Underutilized

Reasons: Secured Area Within 2000 ft. of flammable or explosive material

Bldgs. 20612, 29071, 37505

Kirtland AFB

Bernalillo NM 87117

Landholding Agency: Air Force

Property Number: 18200830010

Status: Unutilized

Reasons: Secured Area

Bldgs. 88, 89

Holloman AFB

Otero NM 88330

Landholding Agency: Air Force

Property Number: 18200830020

Status: Unutilized

Reasons: Secured Area Extensive deterioration Within 2000 ft. of flammable or explosive material

Bldgs. 312, 322

Holloman AFB

Otero NM 88330

Landholding Agency: Air Force

Property Number: 18200830021

Status: Unutilized

Reasons: Secured Area

Bldg. 569

Holloman AFB

Otero NM 88330

Landholding Agency: Air Force

Property Number: 18200830022

Status: Unutilized

Reasons: Within 2000 ft. of flammable or explosive material Secured Area

Bldgs. 807, 833

Holloman AFB

Otero NM 88330

Landholding Agency: Air Force

Property Number: 18200830023

Status: Unutilized

Reasons: Secured Area Within 2000 ft. of flammable or explosive material

Bldg. 1245

Holloman AFB

Otero NM 88330

Landholding Agency: Air Force

Property Number: 18200830024

Status: Unutilized

Reasons: Secured Area

5 Bldgs.

Holloman AFB

Otero NM 88330

Landholding Agency: Air Force

Property Number: 18200840004

Status: Unutilized

Directions: 1201, 1202, 1203, 1205, 1207

Reasons: Secured Area

5 Bldgs.

Holloman AFB

Otero NM 88330

Landholding Agency: Air Force

Property Number: 18200920008

Status: Unutilized

Directions: 71, 1187, 1200, 1284, 1285

Reasons: Secured Area

6 Bldgs.

Holloman AFB

Holloman AFB NM

Landholding Agency: Air Force

Property Number: 18200930007

Status: Unutilized

Directions: 920, 921, 922, 923, 924, 930

Reasons: Secured Area

Bldgs. 1113, 1127

Holloman AFB

Holloman AFB NM

Landholding Agency: Air Force

Property Number: 18200930008

Status: Unutilized

Reasons: Secured Area

New Mexico

Bldg. 30143

Kirtland, AFB

Bernalillo NM 87117

Landholding Agency: Air Force

Property Number: 18200930009

Status: Excess

Reasons: Secured Area Extensive deterioration Within 2000 ft. of flammable or explosive material

Bldg. 1267, 1620

Holloman AFB

Otero, NM 88330

Landholding Agency: Air Force

Property Number: 18200940013

Status: Unutilized

Reasons: Secured Area

Bldgs. 214, 851, 1199

Holloman AFB

Holloman AFB, NM 88330

Landholding Agency: Air Force

Property Number: 18201010014

Status: Underutilized

Reasons: Secured Area

New York

Bldg. 13

USCG Staten Island

Suffolk, NY 10305

Landholding Agency: Coast Guard

Property Number: 88200910002

Status: Excess

Reasons: Secured Area Extensive deterioration

Boat House

USCG Station Eaton's Neck

Northport, NY 11768

Landholding Agency: Coast Guard

Property Number: 88200920005

Status: Unutilized

Reasons: Extensive deterioration Secured Area

North Carolina

4 Bldgs., Tract 01-129

National Military Park

Greensboro, NC 27410

Landholding Agency: Interior

Property Number: 61201010008

Status: Excess

Reasons: Extensive deterioration

3 Bldgs., Tract 01-133

National Military Park

Greensboro, NC 27410

Landholding Agency: Interior

Property Number: 61201010009

Status: Excess

Reasons: Extensive deterioration

2 Bldgs., Tract 01-135

National Military Park

Greensboro, NC 27410

Landholding Agency: Interior

Property Number: 61201010010

Status: Excess

Reasons: Extensive deterioration

House 123, Tract 01-137

National Military Park

Greensboro, NC 27410

Landholding Agency: Interior

Property Number: 61201010011

Status: Excess

Reasons: Extensive deterioration

RPFN 0S1

Group Cape Hatteras

Buxton Co: Dare NC 27902

Landholding Agency: Coast Guard

Property Number: 88200540001

Status: Unutilized

Reasons: Extensive deterioration Secured Area

RPFN 053

Sector N.C.

Atlantic Beach Co: Carteret, NC 28512

Landholding Agency: Coast Guard

Property Number: 88200540002

Status: Unutilized

Reasons: Secured Area Extensive deterioration

Equip. Bldg.

Coast Guard Station

11101 Station St. Emerald Isle, NC

Landholding Agency: Coast Guard

Property Number: 88200630001

Status: Unutilized

Reasons: Secured Area

Sewage Treatment Facility

USCG Cape Hatteras

Buxton, NC 27902

Landholding Agency: Coast Guard

Property Number: 88200920006

Status: Unutilized

Reasons: Secured Area

Bldgs. GH1, FA1

U.S. Coast Guard Station

Hatteras, NC 27943

Landholding Agency: Coast Guard

Property Number: 88200940003

Status: Unutilized

Reasons: Extensive deterioration

North Dakota

Bldgs. 1612, 1741

Grand Forks AFB

Grand Forks, ND 58205

Landholding Agency: Air Force

Property Number: 18200720023

Status: Unutilized

Reasons: Within 2000 ft. of flammable or explosive material Secured Area

Ohio

Naval Reserve Center

Cleveland, OH 44114

Landholding Agency: Coast Guard

Property Number: 88200740002

Status: Unutilized

Reasons: Within 2000 ft. of flammable or explosive material Within airport runway clear zone Secured Area

Oklahoma

Bldg. 193

Vance AFB

Vance, OK 73705

Landholding Agency: Air Force

Property Number: 18201010015

Status: Excess

Reasons: Secured Area

Oregon

Bldg. 1001

ANG Base

Portland, OR 97218

Landholding Agency: Air Force

Property Number: 18200820018

Status: Underutilized

Reasons: Secured Area Within 2000 ft. of flammable or explosive material

Paint Locker

USCG Elect. Sup. Detmt.

Coos Bay, OR

Landholding Agency: Coast Guard

Property Number: 88200920007

Status: Unutilized

Reasons: Secured Area

South Carolina

Bldgs. 19, 20, 23

Shaw AFB

Sumter SC 29152

Landholding Agency: Air Force

Property Number: 18200730009

Status: Underutilized

Reasons: Secured Area

Bldgs. 27, 28, 29

Shaw AFB

Sumter SC 29152

Landholding Agency: Air Force

Property Number: 18200730010

Status: Underutilized

Reasons: Secured Area

Bldgs. 30, 39

Shaw AFB

Sumter SC 29152

Landholding Agency: Air Force

Property Number: 18200730011

Status: Underutilized

Reasons: Secured Area

8 Bldgs.

Shaw AFB

Sumter SC 29152

Landholding Agency: Air Force

Property Number: 18200920021

Status: Unutilized

Directions: B14, B22, B31, B116, B218, B232, B343, B3403

Reasons: Secured Area

Bldg. B1626

Shaw AFB

Sumter SC 29152

Landholding Agency: Air Force

Property Number: 18200930010

Status: Unutilized

Reasons: Within 2000 ft. of flammable or explosive material Secured Area

10 Bldgs.

Shaw AFB

Sumter SC 29152

Landholding Agency: Air Force

Property Number: 18200940014

Status: Unutilized

Directions: B16, B34, B122, B219, B220, B221, B403, B418, B428, B430

Reasons: Secured Area

5 Bldgs.

Shaw AFB

Sumter SC 29152

Landholding Agency: Air Force

Property Number: 18200940015

Status: Unutilized

Directions: B800, B900, B911, B1040, B1041

Reasons: Secured Area

7 Bldgs.

Shaw AFB

Sumber SC 29152

Landholding Agency: Air Force

Property Number: 18200940016

Status: Unutilized

Directions: B1702, B1707, B1708, B1804, B1813, B1907, B5226

Reasons: Secured Area

South Dakota

Bldg. 2306

Ellsworth AFB

Meade SD 57706

Landholding Agency: Air Force

Property Number: 18200740008

Status: Underutilized

Reasons: Secured Area Within 2000 ft. of flammable or explosive material

Bldg. 6927

Ellsworth AFB

Meade SD 57706

Landholding Agency: Air Force

Property Number: 18200830011

Status: Unutilized

Reasons: Within 2000 ft. of flammable or explosive material Secured Area

Texas

Bldg. 1001

FNXC, Dyess AFB

Tye Co: Taylor TX 79563

Landholding Agency: Air Force

Property Number: 18200810008

Status: Unutilized

Reasons: Extensive deterioration

5 Bldgs.

Dyess AFB

Abilene TX 79607

Landholding Agency: Air Force

Property Number: 18200840005

Status: Unutilized

Directions: B-4003, 4120, B-4124, 4127, 4130

Reasons: Secured Area

4 Bldgs.

Dyess AFB

Abilene TX 79607

Landholding Agency: Air Force

Property Number: 18200840006

Status: Unutilized

Directions: 7225, 7226, 7227, 7313

Reasons: Secured Area

4 Bldgs.

Dyess AFB

Abilene TX 79607

Landholding Agency: Air Force

Property Number: 18200840007

Status: Unutilized

Directions: 8050, 8054, 8129, 8133

Reasons: Secured Area

5 Bldgs.

Dyess AFB

Abilene TX 79607

Landholding Agency: Air Force

Property Number: 18200840008

Status: Unutilized

Directions: B-9032, 9107, 9114, B-9140, 11900

Reasons: Secured Area

Bldg. B-4228

FNWZ Dyess AFB

Taylor TX 79607

Landholding Agency: Air Force

Property Number: 18200920009

Status: Unutilized

Reasons: Secured Area

Bldgs. B-3701, B-3702 FNWZ Dyess AFB

Pecos TX 79772

Landholding Agency: Air Force

Property Number: 18200920010

Status: Unutilized

Reasons: Secured Area

Bldgs. 1, 2, 3, 4

Tethered Aerostat Radar Site

Matagorda TX 77457

Landholding Agency: Air Force

Property Number: 18200920023

Status: Excess

Reasons: Secured Area

Bldg. 154

Goodfellow AFB

Goodfellow TX 76908

Landholding Agency: Air Force

Property Number: 18200920024

Status: Unutilized

Reasons: Secured Area

Bldg. FNXH 2001

Dyess AFB

Dyess AFB TX 79607

Landholding Agency: Air Force

Property Number: 18200930011

Status: Unutilized

Reasons: Secured Area Within 2000 ft. of flammable or explosive material

6 Bldgs.

Dyess AFB

Dyess AFB TX 79607

Landholding Agency: Air Force

Property Number: 18200930013

Status: Unutilized

Directions: FNWZ 7235, 7312, 7405, 8045, 8120, 9113

Reasons: Secured Area

4 Bldgs.

Dyess AFB

Dyess AFB TX

Landholding Agency: Air Force

Property Number: 18200940017

Status: Unutilized

Directions: FNWZ 5017, 5305, 6015, 6122

Reasons: Secured Area

Bldg. 351

Laughlin AFB

Del Rio TX 78840

Landholding Agency: Air Force

Property Number: 18201010016

Status: Unutilized

Reasons: Secured Area

Bldgs. 112, 113, 141, 741

Goodfellow AFB

Goodfellow TX 76908

Landholding Agency: Air Force

Property Number: 18201010017

Status: Excess

Reasons: Secured Area

12 Bldgs

Langley AFB

Langley VA 23665

Landholding Agency: Air Force

Property Number: 18200920012

Status: Unutilized

Directions: 35, 36, 903, 905, 1013, 1020, 1033, 1050, 1066, 1067, 1069, 1075

Reasons: Floodway Secured Area

Bldgs. 38, 52

Langley AFB

Langley VA 23665

Landholding Agency: Air Force

Property Number: 18201010018

Status: Unutilized

Reasons: Extensive deterioration Secured Area

Bldg. 542

Joint Expeditionary Base

Little Creek

Virginia Beach VA

Landholding Agency: Navy

Property Number: 77201010028

Status: Unutilized

Reasons: Secured Area Extensive deterioration

16 Structures

Joint Expeditionary Base

Little Creek

Virginia Beach VA

Landholding Agency: Navy

Property Number: 77201010029

Status: Unutilized

Directions: U83, U88-U94, U97, U101-U105, #1, #2

Reasons: Secured Area Extensive deterioration

Bldg. 2012

Marine Corps Base

Quantico VA 22134

Landholding Agency: Navy

Property Number: 77201010030

Status: Unutilized

Reasons: Extensive deterioration

Training Bldg.

USCG Integrated Support Ctr

Portsmouth Co: Norfolk VA 43703

Landholding Agency: Coast Guard

Property Number: 88200530001

Status: Excess

Reasons: Secured Area

Bldg. 011

Integrated Support Center

Portsmouth Co: Norfolk VA 43703

Landholding Agency: Coast Guard

Property Number: 88200620002

Status: Excess

Reasons: Secured Area

9 Bldgs.

USCG Cape Charles Station

Winters Quarters

Northampton VA 23310

Landholding Agency: Coast Guard

Property Number: 88200740001

Status: Unutilized

Reasons: Extensive deterioration

Virginia

Navigation Center Trailer

USCG TISCOM

Alexandria VA 22315

Landholding Agency: Coast Guard

Property Number: 88200820003

Status: Excess

Reasons: Secured Area

Washington

Defense Fuel Supply Point

18 structures/21 acres

Mukilteo WA

Landholding Agency: Air Force

Property Number: 18200910001

Status: Unutilized

Reasons: Extensive deterioration

Admiral's House 8620 NE 26th Pl

Clyde Hill WA 98004

Landholding Agency: GSA

Property Number: 54201010016

Status: Excess

GSA Number: 10-D-WA-1250AA Reasons: Extensive deterioration Other -mold

West Virginia

Bldgs. 102, 106, 111 Air National Guard

Martinsburg WV 25405

Landholding Agency: Air Force

Property Number: 18200920013

Status: Unutilized

Reasons: Within 2000 ft. of flammable or explosive material Secured Area

Bldgs. 101, 110

Air National Guard

Martinsburg WV 25405

Landholding Agency: Air Force

Property Number: 18200940018

Status: Unutilized

Reasons: Secured Area Within 2000 ft. of flammable or explosive material

Bldg. 88A

Navy Information

Operations Command

Sugar Grove WV 26815

Landholding Agency: Navy

Property Number: 77201010031

Status: Excess

Reasons: Secured Area

Wisconsin

Federal Building

68 South Stevens St.

Rhinelander WI 54501

Landholding Agency: GSA

Property Number: 54201010017

Status: Excess

GSA Number: 1-G-WI-609

Reasons: Within 2000 ft. of flammable or explosive material

Bldg. OV1

USCG Station

Bayfield WI 54814

Landholding Agency: Coast Guard

Property Number: 88200620001

Status: Excess

Reasons: Secured Area

Wyoming

Bldg. 00012

Cheyenne RAP

Laramie WY 82009

Landholding Agency: Air Force

Property Number: 18200730013

Status: Unutilized

Reasons: Extensive deterioration Secured Area Within 2000 ft. of flammable or explosive material

Unsuitable Properties

Land

California

Facilities 99001 thru 99006

Pt Arena AF Station

Mendocino CA 95468

Landholding Agency: Air Force

Property Number: 18200820028

Status: Excess

Reasons: Secured Area

7 Facilities

Pt. Arena Comm Annex

Mendocino CA 95468

Landholding Agency: Air Force

Property Number: 18200820031

Status: Excess

Directions: 99001, 99003, 99004, 99005, 99006, 99007, 99008

Reasons: Secured Area

Facilities 99002 thru 99014

Pt. Arena Water Sys Annex

Mendocino CA 95468

Landholding Agency: Air Force

Property Number: 18200820032

Status: Excess

Reasons: Secured Area

Florida

Defense Fuel Supply Point

Lynn Haven FL 32444

Landholding Agency: Air Force

Property Number: 18200740009

Status: Excess

Reasons: Floodway

Indiana

1.059 acres

Grissom AFB

Peru IN 46970

Landholding Agency: Air Force

Property Number: 18200940012

Status: Excess

Reasons: Within 2000 ft. of flammable or explosive material

Maryland

Site A: 16.1 acres

Naval Support Facility

Indian Head MD 20640

Landholding Agency: Navy

Property Number: 77201010025

Status: Underutilized

Reasons: Secured Area

Texas

Rattlesnake ESS

FNWZ, Dyess AFB

Pecos TX 79772

Landholding Agency: Air Force

Property Number: 18200920011

Status: Unutilized

Reasons: Secured Area

24 acres

Tethered Aerostate Radar Site

Matagorda TX 77457

Landholding Agency: Air Force

Property Number: 18200920022

Status: Excess

Reasons: Secured Area

FNXH 99100

Dyess AFB

Dyess AFB TX 79607

Landholding Agency: Air Force

Property Number: 18200930012

Status: Unutilized

Reasons: Within 2000 ft. of flammable or explosive material

2.43 acre/0.36 acre

Dyess AFB

Dyess AFB TX 79563

Landholding Agency: Air Force

Property Number: 18200930014

Status: Unutilized

Directions: FNXL 99104, 99108, 99110, 99112

FNXM 99102, 99103, 99108

Reasons: Within airport runway clear zone

[FR Doc. 2010-6342 Filed 3-25-10; 8:45 am]

BILLING CODE 4210-67-P